ENVIRONMENTAL PROTECTION AGENCY

[FRL-7885-4]

Science Advisory Board Staff Office; Notification of a Teleconference Meeting of the Superfund Benefits Analysis Advisory Panel of the Science Advisory Board

AGENCY: Environmental Protection Agency (EPA).

ACTION: Notice.

SUMMARY: The EPA Science Advisory Board (SAB) Staff Office announces a public teleconference of the SAB Superfund Benefits Analysis Advisory Panel.

DATES: April 29, 2005. A public teleconference of the SAB Superfund Benefits Analysis Advisory Panel will be held from 2:30 PM to 4:30 PM Eastern time on April 29, 2005.

FOR FURTHER INFORMATION CONTACT: Members of the public who wish to obtain the call-in number and access code to participate in the teleconference may contact Dr. Holly Stallworth, Designated Federal Officer, at telephone: (202) 343-9867 or via e-mail at: stallworth.holly@epa.gov. An agenda and any other background materials for this teleconference will be posted on the SAB Web site at http://www.epa.gov/sab/panels/sba_adv_panel.htm prior to the teleconference.

Technical Contact: The technical contact in EPA's Office of Solid Waste and Emergency Response for the Superfund Benefits Analysis is Ms. Melissa Friedland who can be reached at (703) 603-8864 or friedland.melissa@epa.gov.

SUPPLEMENTARY INFORMATION: Background: EPA's Office of Solid Waste and Emergency Response (OSWER) has issued a draft study of the benefits of the Superfund program. This draft study is entitled Superfund Benefits Analysis and may be found at:— http://www.epa.gov/superfund/news/benefits.htm. In response to OSWER's request for advice on this draft study, the Science Advisory Board Superfund Benefits Analysis Advisory Panel held a teleconference on February 11, 2005 and a face-to-face public meeting on February 24-25, 2005 for discussion of this draft study. The original “widecast” soliciting expertise for the Superfund Benefits Analysis Advisory Panel was published in a Notice on July 30, 2004 (69 FR 45705-45706), and a Notice announcing both the teleconference and face-to-face meetings was published on February 7, 2005 (70 FR 6436).

On April 29, 2005, the SAB Panel will discuss its draft advisory report that responds to the charge questions to the Panel. This draft advisory will be posted at the SAB Web site at http://www.epa.gov/sab/panels/sba_adv_panel.htm prior to the meeting. An agenda for the April 29, 2005 teleconference will also be posted on the SAB Web site prior to the teleconference.

Procedures for Providing Public Comment. It is the policy of the EPA Science Advisory Board (SAB) Staff Office to accept written public comments of any length, and to accommodate oral public comments whenever possible. The EPA SAB Staff Office expects that public statements presented at the Superfund Benefits Analysis Advisory Panel's meetings will not be repetitive of previously submitted oral or written statements. Oral Comments: Requests to provide oral comments must be in writing (e-mail, fax or mail) and received by Dr. Stallworth no later than five business days prior to the teleconference in order to reserve time on the meeting agenda. For teleconferences, opportunities for oral comment will usually be limited to no more than five minutes per speaker and no more than fifteen minutes total. Written Comments: Although written comments are accepted until the date of the meeting (unless otherwise stated), written comments should be received in the SAB Staff Office at least five business days prior to the meeting date so that the comments may be made available to the committee for their consideration. Comments should be supplied to the DFO at the address/contact information noted above in the following formats: one hard copy with original signature, and one electronic copy via e-mail (acceptable file format: Adobe Acrobat, WordPerfect, Word, or Rich Text files (in IBM-PC/Windows 98/2000/XP format).

Dated: March 4, 2005.
Vanessa T. Vu,
Director, EPA Science Advisory Board Staff Office.

[FR Doc. 05-5322 Filed 3-16-05; 8:45 am]

BILLING CODE 6560-50-P